DEPARTMENT OF THE INTERIOR

Bureau of Land Management

[ID-080-1210-PG]

Notice of Resource Advisory Council Meeting

AGENCY: Bureau of Land Management, Upper Columbia—Salmon Clearwater District, Idaho.

ACTION: Notice of Resource Advisory Council Meeting.

SUMMARY: In accordance with the Federal Land Policy and Management Act and the Federal Advisory Committee Act of 1972 (FACA), 5 U.S.C. Appendix, the Bureau of Land Management (BLM) announces the meeting of the Upper Columbia—Salmon Clearwater District Resource Advisory Council (RAC) on Tuesday, May 9, 2000 at the District Office, 1808 N. Third St., Coeur d'Alene, Idaho. A telephone patch will be available at the Salmon-Challis National Forest Headquarters office located on U.S. 93, one mile south of Salmon, Idaho.

Agenda items include an update from the Recreation Sub-Group on its findings concerning the potential use of funds collected through the Salmon-Challis National Forest's Salmon River fee demonstration project and identification of future issues for RAC consideration. The meeting will begin at 10:00 a.m. (PDT). The public may address the Council during the public comment period from 10:20 a.m.-10:50 a.m. (PDT). Those wishing to address the Council should contact Ted Graf, RAC Coordinator, at (208) 769-5004 at least 24 hours prior to the meeting.

SUPPLEMENTARY INFORMATION: All Resource Advisory Council meetings are open to the public. Interested persons may make oral statements to the Council, or written statements may be submitted for the Council's consideration. Depending on the number of persons wishing to make oral statements, a per-person time limit may be established by the Designated Federal Official.

The Council's responsibilities include providing recommendations concerning long-range planning and establishing resource management priorities.

FOR FURTHER INFORMATION CONTACT: Ted Graf (208)769-5004.

Dated: April 13, 2000.
Ted Graf,
Acting District Manager.

[FR Doc. 00-9889 Filed 4-19-00; 8:45 am]

BILLING CODE 4310-GG-M